ENVIRONMENTAL PROTECTION AGENCY

[FRL-9458-2; Docket ID No. EPA-HQ-ORD-2009-0204]

Draft Toxicological Review of Acrylonitrile: In Support of Summary Information on the Integrated Risk Information System (IRIS)

AGENCY: Environmental Protection Agency (EPA).

ACTION: Notice of Extension of Public Comment Period.

SUMMARY: EPA announced a 60-day public comment period on June 30, 2011 (76 FR 38387) for the external review draft human health assessment titled, “Toxicological Review of Acrylonitrile: In Support of Summary Information on the Integrated Risk Information System (IRIS)” (EPA/635/R-08/013A). We are extending this notice 30 days at the request of the Acrylonitrile Group. The draft assessment was prepared by the National Center for Environmental Assessment (NCEA) within the EPA Office of Research and Development (ORD). EPA is releasing this draft assessment solely for the purpose of pre-dissemination peer review under applicable information quality guidelines. This draft assessment has not been formally disseminated by EPA. It does not represent and should not be construed to represent any Agency policy or determination. After public review and comment, an EPA contractor will convene an expert panel for independent external peer review of this draft assessment. The public comment period and external peer review meeting are separate processes that provide opportunities for all interested parties to comment on the assessment. The external peer review meeting will be scheduled at a later date and announced in the Federal Register. Public comments submitted during the public comment period will be provided to the external peer reviewers before the panel meeting and considered by EPA in the disposition of public comments. Public comments received after the public comment period closes will not be submitted to the external peer reviewers and will only be considered by EPA if time permits.

DATES: The public comment period will be extended to end September 28, 2011. Comments should be in writing and must be received by EPA by September 28, 2011.

ADDRESSES: The draft “Toxicological Review of Acrylonitrile: In Support of Summary Information on the Integrated Risk Information System (IRIS)” is available primarily via the Internet on the NCEA home page under the Recent Additions and Publications menus at http://www.epa.gov/ncea. A limited number of paper copies are available from the Information Management Team, National Center for Environmental Assessment, Mail Code: 8601P, U.S. Environmental Protection Agency, 1200 Pennsylvania Avenue, NW., Washington, DC 20460; telephone: 703-347-8561; facsimile: 703-347-8691. If you request a paper copy, please provide your name, mailing address, and the draft assessment title.

Comments may be submitted electronically via http://www.regulations.gov, by e-mail, by mail, by facsimile, or by hand delivery/courier. Please follow the detailed instructions provided in the SUPPLEMENTARY INFORMATION section of the previous Federal Register Notice (76 FR 38387).

Additional Information: For information on the docket, http://www.regulations.gov, or the public comment period, please contact the Office of Environmental Information (OEI) Docket, Mail Code: 2822T, U.S. Environmental Protection Agency, 1200 Pennsylvania Avenue, NW., Washington, DC 20460; telephone: 202-566-1752; facsimile: 202-566-1753; or e-mail: ORD.Docket@epa.gov.

For information on the draft assessment, please contact Susan Rieth, National Center for Environmental Assessment, Mail Code: 8601P, U.S. Environmental Protection Agency, 1200 Pennsylvania Avenue, NW., Washington, DC 20460; telephone: (703) 347-8582; facsimile: (703) 347-8689; or e-mail: FRN_Questions@epa.gov.

Dated: August 24, 2011.
Darrell A. Winner,
Acting Director, National Center for Environmental Assessment.

[FR Doc. 2011-22288 Filed 8-30-11; 8:45 am]

BILLING CODE 6560-50-P